DEPARTMENT OF TRANSPORTATION

Federal Highway Administration

Environmental Impact Statement; Hawaii, HI

AGENCY: Federal Highway Administration (FHWA), DOT.

ACTION: Revised Notice of Intent.

SUMMARY: The FHWA is issuing this revised notice of intent (NOI) to inform the public that an environmental impact statement (EIS) will be prepared for a proposed highway project in Hawaii County, Hawaii. This notice revises the NOI that was published in the Federal Register on July 13, 1999.

FOR FURTHER INFORMATION CONTACT: Ricardo Suarez, Division Engineer, Federal Highway Administration, Central Federal Lands Highway Division. Contact Information: 12300 West Dakota Avenue, Lakewood, CO 80228. Telephone: (720) 963-3448.

SUPPLEMENTARY INFORMATION: The FHWA, Central Federal Lands Highway Division (CFLHD), and the Hawaii Department of Transportation will prepare an environmental impact statement (EIS) for a surface transportation project in the South Kohala and North Kona Districts, of the island of Hawaii. The project intends to address the linkage between the Queen Kaahumanu Highway (State Highway 19) and the Mamalahoa Highway (State Highway 190) in the vicinity of the newly realigned Daniel K. Inouye Highway (formerly Saddle Road [State Highway 200]). This proposed link would constitute the final piece to complete one of the three highway arterials that connect the east and west regions on the island of Hawaii. This proposed link has been identified in the Hawaii Long-Range Plan for the purpose of adding inter-regional capacity. This notice updates a notice for the project originally published in the July 13, 1999, Federal Register. An EIS was not issued pursuant to the prior notice because changed circumstances may affect potential project alternatives.

The purpose of the project is to further develop this inter-regional capacity and connectivity link by considering various alternatives and their impacts, including the no-build scenario, through the environmental impact statement process. Secondary and supporting purposes to this primary goal are to: (1) Improve the efficiency and operational level of traffic movement between East Hawaii and West Hawaii in general; and (2) support the unique modal needs along this corridor, such as commercial and military transportation uses.

A notice describing the proposed action and soliciting comments will be sent to appropriate Federal, State, and local agencies, and to private organizations and individuals who have expressed an interest in the project. A public hearing will be held after publication of the Draft EIS. A public notice will be placed in a daily newspaper to announce the date, time and place of the meeting and the availability of the Draft EIS for public and agency review and copying.

To ensure that the full range of issues relating to the proposed action are identified and addressed, comments and suggestions are invited from all interested parties. Comments or questions concerning the proposed action should be directed to the FHWA at the address provided above.

(Catalog of Federal Domestic Assistance Program Number 20.205, Highway Planning and Construction. The regulations implementing Executive Order 12372 regarding intergovernmental consultation on Federal programs and activities apply to this program.)

Issued on: March 11, 2014.
Ricardo Suarez,
Division Engineer, FHWA-CFLHD.

[FR Doc. 2014-05899 Filed 3-17-14; 8:45 am]

BILLING CODE 4910-22-P